DEPARTMENT OF ENERGY

Federal Energy Regulatory Commission

Supplemental Notice of Technical Conference

Review of Generator Interconnection Agreements and Procedures | Docket No. RM16-12-000.
American Wind Energy Association | Docket No. RM15-21-000.

As announced in the Notice of Technical Conference issued on March 29, 2016 in the above-captioned proceedings,¹ Federal Energy Regulatory Commission (Commission) staff will hold a technical conference on May 13, 2016 to discuss select issues related to a petition for rulemaking submitted by the American Wind Energy Association (Docket No. RM15-21-000).² In addition, the conference will explore other generator interconnection issues, including interconnection of electric storage resources. The conference will be held from 9:30 a.m. to 4:30 p.m. (EDT) in the Commission Meeting Room at Commission headquarters, 888 First Street NE., Washington, DC 20426. Members of the Commission may attend the conference, which will also be open for the public to attend. Advance registration is not required, but is encouraged. Attendees may register at the following Web page: https://www.ferc.gov/whats-new/registration/05-13-16-form.asp.

¹ Review of Generator Interconnection Agreements and Procedures, Docket Nos. RM16-12-000 and American Wind Energy Association, Docket No. RM15-21-000 (Mar. 29, 2016) (Notice of Technical Conference).

² The comments filed in Docket No. RM15-21-000 will be incorporated into Docket No. RM16-12-000.

1.

Attached to this supplemental notice is a list of interconnection queue topics considered for discussion at the technical conference. Questions that speakers should be prepared to discuss are grouped by topic below. Please note that this organization does not necessarily reflect the individual panels that will take place at the technical conference. A final agenda will be provided in a subsequent supplemental notice of technical conference. Those interested in speaking at the technical conference should notify the Commission by April 20, 2016, by completing the online form at the following Web page: https://www.ferc.gov/whats-new/registration/05-13-16-speaker-form.asp. On this form, speakers can provide biographical information and indicate preferred topics to address. Due to time constraints, it may not be possible to accommodate all those interested in speaking. Selected speakers will be notified as soon as possible.

Discussions at the conference may involve issues raised in proceedings that are currently pending before the Commission. These proceedings include, but are not limited to:

E.ON Climate & Renewables North America LLC, Pioneer Trail Wind Farm, LLC, Settlers Trail Wind Farm, LLC v. Northern Indiana Public Service Company, Docket No. EL14-66-002;

Entergy Arkansas, Inc., Docket No. ER14-671-000;

Internal MISO Generators v. Midcontinent Independent System Operator, Inc., Docket No. EL15-99-000;

Midcontinent Independent System Operator, Inc., Docket No. ER16-675-000;

California Independent System Operator Corporation, Docket No. ER16-693-000;

ISO New England, Inc., Docket No. ER16-946-000;

Midcontinent Independent System Operator, Inc., Docket No. ER16-1120-000; and

Midcontinent Independent System Operator, Inc., Docket No. ER16-1211-000.

The conference will be transcribed and webcast. A link to the webcast of this event will be available in the Commission Calendar of Events at http://www.ferc.gov. Transcripts of the technical conference will be available for a fee from Ace-Reporting (202-347-3700). The Capitol Connection provides technical support for the webcasts and offers the option of listening to the conferences via phone-bridge for a fee. For additional information, visit www.CapitolConnection.org or call (703) 993-3100.

Commission conferences are accessible under section 508 of the Rehabilitation Act of 1973. For accessibility accommodations, please send an email to accessibility@ferc.gov or call toll free (866) 208-3372 (voice) or (202) 502-8659 (TTY), or send a FAX to (202) 208-2106 with the required accommodations.

For more information about the technical conference, please contact Tony Dobbins (Tony.Dobbins@ferc.gov; 202-502-6630) or Adam Pan (Adam.Pan@ferc.gov; 202-502-6023). For information related to logistics, please contact Sarah McKinley (Sarah.Mckinley@ferc.gov; 202-502-8368).

Dated: April 13, 2016.
Kimberly D. Bose,
Secretary.

[FR Doc. 2016-08966 Filed 4-18-16; 8:45 am]

BILLING CODE 6717-01-P